DEPARTMENT OF TRANSPORTATION

Federal Aviation Administration

Notice of Submission Deadline for Schedule Information for O'Hare International Airport, San Francisco International Airport, John F. Kennedy International Airport, and Newark Liberty International Airport for the Summer 2015 Scheduling Season

AGENCY: Federal Aviation Administration (FAA), Department of Transportation.

ACTION: Notice of submission deadline.

SUMMARY: Under this notice, the FAA announces the submission deadline of October 9, 2014, for summer 2015 flight schedules at Chicago's O'Hare International Airport (ORD), San Francisco International Airport (SFO), New York's John F. Kennedy International Airport (JFK), and Newark Liberty International Airport (EWR) in accordance with the International Air Transport Association (IATA) Worldwide Slot Guidelines. The deadline coincides with the schedule submission deadline for the IATA Slots Conference for the summer 2015 scheduling season.

SUPPLEMENTARY INFORMATION: The FAA has designated ORD as an IATA Level 2 airport, SFO as a Level 2 airport, JFK as a Level 3 airport, and EWR as a Level 3 airport. The FAA currently limits scheduled operations at JFK and EWR by Order until a final Slot Management and Transparency Rule for LaGuardia Airport, John F. Kennedy International Airport, and Newark Liberty International Airport (RIN 2120-AJ89) becomes effective but not later than October 29, 2016.¹

¹ Operating Limitations at John F. Kennedy International Airport, 73 FR 3510 (Jan. 18, 2008) as amended 79 FR 16854 (March 26, 2014); Operating Limitations at Newark Liberty International Airport, 73 FR 29550 (May 21, 2008) as amended 79 FR 16857 (March 26, 2014).

The FAA is primarily concerned about planned passenger and cargo operations during peak hours, but carriers may submit schedule plans for the entire day. At ORD, the peak hours are 0700 to 2100 Central Time (1200 to 0200 UTC), at SFO from 0600 to 2300 Pacific Time (1300 to 0600 UTC), and at EWR and JFK from 0600 to 2300 Eastern Time (1000 to 0300 UTC). Carriers should submit schedule information in sufficient detail including, at minimum, the operating carrier, flight number, scheduled time of operation, frequency, and effective dates. IATA standard schedule information format and data elements (Standard Schedules Information Manual or SSIM) may be used.

The U.S. summer scheduling season for these airports is from March 29, 2015, through October 24, 2015, in recognition of the IATA northern summer period. The FAA understands there may be differences in slot times due to different U.S. daylight saving time dates and will accommodate these differences to the extent possible.

At JFK, there will be runway construction in summer 2015 that will impact airport operations and runway capacity. Runway 13L/31R will be closed from March 1 through April 9, 2015, and Runway 4L/22R will be closed from April 10 through September 21, 2015. Modeling suggests that delay impacts may be significant at the typical demand levels, especially when available runways or adverse weather conditions limit capacity. The Port Authority of New York and New Jersey, the FAA, and stakeholders have been meeting to determine ways to improve operations and mitigate delays to the extent possible. The FAA has issued a limited waiver of the minimum slot usage requirement to encourage carriers to temporarily reduce operations without losing historical precedence for slots.² The FAA will work with carriers to potentially retime flights to less congested periods. Slots for new flights will be limited to off-peak times to avoid adding to congestion during the construction.

² 79 FR 30925 (May 29, 2014).

DATES: Schedules must be submitted no later than October 9, 2014.

ADDRESSES: Schedules may be submitted by mail to the Slot Administration Office, AGC-200, Office of the Chief Counsel, 800 Independence Avenue SW., Washington, DC 20591; by facsimile to: 202-267-7277; or by email to: 7-AWA-slotadmin@faa.gov.

FOR FURTHER INFORMATION CONTACT: Robert Hawks, Office of the Chief Counsel, Federal Aviation Administration, 800 Independence Avenue SW., Washington, DC 20591; telephone number: 202-267-7143; fax number: 202-267-7971; email: rob.hawks@faa.gov.

Issued in Washington, DC, on September 12, 2014.
Mark W. Bury,
Assistant Chief Counsel for International Law, Legislation, and Regulations.

[FR Doc. 2014-22236 Filed 9-17-14; 8:45 am]

BILLING CODE 4910-13-P